DEPARTMENT OF AGRICULTURE

Rural Utilities Service

Fitzgerald Renewable Energy, LLC: Notice of Intent To Hold Public Scoping Meetings and Prepare an Environmental Assessment

AGENCY: Rural Utilities Service, USDA.

ACTION: Notice of intent to hold public scoping meetings and prepare an environmental assessment.

SUMMARY: The Rural Utilities Service (RUS), an Agency delivering the United States Department of Agriculture (USDA) Rural Development Utilities Programs, hereinafter referred to as Rural Development and/or the Agency, intends to hold public scoping meetings and prepare an Environmental Assessment (EA) in connection with potential impacts related to a project proposed by Fitzgerald Renewable Energy, LLC (FRE), with headquarters in Winter Park, FL. The proposal consists of the construction of a 55 megawatt (MW) biomass power plant located in Ben Hill County, Georgia on Peachtree Road. FRE is requesting the Agency to provide financial assistance for the proposed action.

DATES: USDA Rural Development will conduct a Scoping Meeting in an open house format, seeking the input of the public and other interested parties for the preparation of an EA. The meeting will be held on January 29, 2009, from 5 p.m. until 7 p.m., at The Grand Conference Center, 115 South Main Street, Fitzgerald, GA 31750, Telephone (229) 426-5090. Comments regarding the proposed action may be submitted (orally or in writing) at the public scoping meeting or in writing and received within 30 days after the scoping meeting by Rural Development at the address provided in this notice.

ADDRESSES: To send comments or for further information, please contact Stephanie Strength, Environmental Protection Specialist, USDA, Rural Development Utilities Programs, Engineering and Environmental Staff, 1400 Independence Avenue, SW., Stop 1571, Washington, DC 20250-1571, Telephone (202) 720-0468, or e-mail stephanie.strength@wdc.usda.gov.

An Electric Alternatives Evaluation and Site Selection Study Report (Report), prepared by FRE, will be presented at the public scoping meeting. The Report will be available for public review at the Agency's address provided in this notice, at the Agency's Web site: http://www.usda.gov/rus/water/ees/ea.htm, at Fitzgerald Renewable Energy, LLC, 152 Lincoln Avenue, Winter Park, FL 32789, and at the Fitzgerald/Ben Hill County Library, 123 North Main Street, Fitzgerald, GA 31750, Telephone: 229-426-5080.

SUPPLEMENTARY INFORMATION: FRE proposes to construct a 55 MW biomass power plant on approximately 40 acres on Peachtree Road in Fitzgerald, GA. It is anticipated that the facilities would be in service in 2011.

Government agencies, private organizations, and the public are invited to participate in the planning and analysis of the proposed project. Representatives from the Agency and FRE will be available at the scoping meeting to discuss the Agency's environmental review process, describe the proposal, the purpose and need for the proposal, alternatives under consideration, and to discuss the scope of environmental issues to be considered, answer questions, and accept comments.

From information provided in the Report, input that may be provided by government agencies, private organizations, and the public, FRE will prepare an environmental report to be submitted to the Agency for review. The Agency will use the environmental report to determine the significance of the impacts of the proposal and, if acceptable, will adopt it as its EA for the proposal. The Agency's EA would be available for review and comment for 30 days.

Should the Agency determine, based on the EA, that the impacts of the construction and operation of the power plant would not have a significant environmental impact, it will prepare a finding of no significant impact; otherwise, the Agency would proceed to prepare an environmental impact statement. Public notification of a finding of no significant impact or the intent to prepare an environmental impact statement would be published in the Federal Register and in newspapers with a circulation in the project area.

Any final action by the Agency related to the proposed project will be subject to, and contingent upon, compliance with environmental review requirements as prescribed by the Agency's environmental policies and procedures (7 CFR part 1794).

Dated: January 9, 2009.
Mark S. Plank,
Director, Engineering and Environmental Staff, USDA/Rural Development Utilities Programs.

[FR Doc. E9-775 Filed 1-14-09; 8:45 am]

BILLING CODE 3410-15-P